DEPARTMENT OF TRANSPORTATION

Federal Highway Administration

[Docket No. FHWA-2020-0013]

Agency Information Collection Activities: Request for Comments on the Renewal of a Previously Approved Information Collection

Correction

In Notice document 2020-15020, appearing on pages 42065-42066, in the issue of Monday July 13, 2020, make the following correction:

On page 42065, in the second column, in the heading “DATES:”, the date reading “July 13, 2020” should read “September 11, 2020”.

[FR Doc. C1-2020-15020 Filed 9-10-20; 8:45 am]

BILLING CODE 1301-00-D